DEPARTMENT OF TRANSPORTATION

Federal Aviation Administration

14 CFR Part 71

Planned Establishment of the Nantucket Memorial Airport Class C Airspace Area, MA

AGENCY: Federal Aviation Administration (FAA), DOT.

ACTION: Notice of public meetings.

SUMMARY: This document announces two fact-finding informal airspace meetings to solicit information from airspace users, and others, concerning a plan to establish a Class C airspace area at the Nantucket Memorial Airport, MA. The purpose of these meetings is to provide interested parties an opportunity to present views, recommendations, and comments on the plan to establish the Nantucket, MA, Class C airspace area. All comments received during these meetings will be considered prior to any revision or issuance of a notice of proposed rulemaking.

DATES: Meetings. These informal airspace meetings will be held on Monday, August 20, 2001, at 7 pm-9 pm; and Tuesday, August 21, 2001, at 7 pm-9 pm

Comments. must be received on or before September 21, 2001.

ADDRESSES: On August 20, 2001, the meeting will be held at the Continental Terminal conference room, at the Hyannis Airport (Barnstable Municipal-Boardman/Polando Field), Hyannis, MA. The August 21, 2001, meeting will be held at the Nantucket High School, Atlantic Avenue, Nantucket, MA.

Comments. Send comments on the proposal in triplicate to: Manager, Air Traffic Division, ANE-500, Federal Aviation Administration, 12 New England Executive Park, Burlington, MA 01803.

FOR FURTHER INFORMATION CONTACT: Robert Vosburgh, Cape TRACON, FAA, Otis ANGB, MA, 02128; telephone (508) 563-1400, FAX (508) 563-1490; or Patricia L. Garrambone, Air Traffic Division, FAA New England Regional Office, Burlington, MA, 01803; telephone (781) 238-7520, FAX (718) 238-7585.

SUPPLEMENTARY INFORMATION:

Meeting Procedures

(a) These meetings will be informal in nature and will be conducted by one or more representatives of the FAA New England Region. A representative from the FAA will present a formal briefing on the proposed Class C airspace area. Each participant will be given an opportunity to deliver comments or make a presentation at the meetings. Only comments concerning the proposal to establish a Class C airspace area will be accepted.

(b) These meetings will be open to all persons on a space-available basis. There will be no admission fee or other charge to attend and participate.

(c) Any person wishing to make a presentation to the FAA panel will be asked to sign in and estimate the amount of time needed for such presentation. This will permit the panel to allocate an appropriate amount of time for each presenter.

(d) These meetings will not be adjourned until everyone on the list has had an opportunity to address the panel.

(e) Position papers or other handout material relating to the substance of these meetings will be accepted. Participants wishing to submit handout material should present three copies to the presiding officer. There should be additional copies of each handout available for other attendees.

(f) These meetings will not be formally recorded.

Agenda for the Meetings

Opening Remarks and Presentation of Meeting Procedures.

Briefing on Background for the Proposal to Establish a Class C airspace area at Nantucket, MA.

Public Presentations and Discussions.

Closing Comments.

Issued in Washington, DC, on July 20, 2001.
Reginald C. Matthews,
Manager, Airspace and Rules Division.

[FR Doc. 01-18804 Filed 7-26-01; 8:45 am]

BILLING CODE 4910-13-P